DEPARTMENT OF AGRICULTURE

Animal and Plant Health Inspection Service

[Docket No. APHIS-2019-0013]

Importation of Fresh Soursop Fruit (Annona muricata) From Mexico Into the Continental United States

AGENCY: Animal and Plant Health Inspection Service, USDA.

ACTION: Notice.

SUMMARY: We are advising the public of our decision to authorize the importation of fresh soursop fruit (Annona muricata), also known as guanabana, from Mexico into the continental United States. Based on findings of a pest risk analysis, which we made available to the public for review and comment through a previous notice, we have determined that the application of one or more designated phytosanitary measures will be sufficient to mitigate the risks of introducing or disseminating plant pests or noxious weeds via the importation of fresh soursop fruit from Mexico.

DATES: Imports may be authorized beginning October 29, 2024.

FOR FURTHER INFORMATION CONTACT: Mr. Marc Phillips, Senior Regulatory Policy Specialist, PPQ, APHIS, USDA, 4700 River Road, Unit 133, Riverdale, MD 20737; (301) 851-2114; marc.phillips@usda.gov.

SUPPLEMENTARY INFORMATION:

Background

Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 contains a performance-based process for approving the importation of commodities that, based on the findings of a pest risk analysis (PRA), can be safely imported subject to one or more of the designated phytosanitary measures listed in paragraph (b) of that section. Under that process, APHIS proposes to authorize the importation of a fruit or vegetable into the United States if, based on findings of a PRA, we determine that the measures can mitigate the plant pest risk associated with the importation of that fruit or vegetable. APHIS then publishes a notice in the Federal Register announcing the availability of the PRA that evaluates the risks associated with the importation of a particular fruit or vegetable. Following the close of the 60-day comment period, APHIS will issue a subsequent Federal Register notice announcing whether or not we will authorize the importation of the fruit or vegetable subject to the phytosanitary measures specified in the notice.

In accordance with that process, we published a notice ¹ in the Federal Register on May 2, 2019 (84 FR 18764-18765, Docket No. APHIS-2019-0013), in which we announced the availability, for review and comment, of a PRA that evaluated the risks associated with the importation of fresh soursop ² (Annona muricata) fruit from Mexico into the continental United States. The PRA consisted of a pest list identifying pests of quarantine significance that could follow the pathway of the importation of fresh soursop fruit into the continental United States from Mexico and a risk management document (RMD) identifying phytosanitary measures to be applied to that commodity to mitigate the pest risk.

¹ To view the notice, the supporting documents, and the comments received, go to www.regulations.gov. Enter APHIS-2019-0013 in the Search field.

² Soursop is also commonly referred to as guanabana.

We solicited comments on the notice for 60 days, ending on July 1, 2019. Based on a public request to extend the comment period, APHIS did so, and the extended comment period closed on August 2, 2019. We received 28 comments by the close of the comment period. They were from the national plant protection organization (NPPO) of Mexico, an industry group representing Mexican fruit packers, State departments of agriculture within the United States, a county government, a committee representing domestic avocado producers, a trade association representing domestic citrus producers, an agricultural extension agent, domestic soursop producers, and private citizens.

We have categorized the comments according to topic areas, summarizing and responding to each comment below.

General Comments

One commenter stated that Mexico's NPPO and authorities lack the expertise necessary to implement the systems approach, particularly phytosanitary inspections.

We consider the NPPO of Mexico to have sufficient training to conduct phytosanitary inspections, which are required for the importation of many commodities from Mexico, and which are conducted routinely.

Several commenters stated that Mexico lacked sufficient personnel to conduct phytosanitary inspections.

APHIS will require that a phytosanitary inspection is conducted by the NPPO of Mexico and a phytosanitary certificate is issued in order for the shipment of soursop to be allowed to enter the United States for irradiation treatment; shipments that lack this phytosanitary certificate will be refused entry. However, we have no reason to believe that Mexico lacks sufficient personnel to perform this task. As noted above, phytosanitary inspections are performed routinely within Mexico, and the NPPO of Mexico has not expressed concerns about insufficient resources to perform them.

Several commenters stated that the NPPO lacked the integrity and incentives for adequate phytosanitary inspection; they alleged a history of lying and cheating within the NPPO.

Mexico is a signatory to the World Trade Organization's Sanitary and Phytosanitary Agreement. As such, it has agreed to respect the phytosanitary measures the United States imposes on the importation of plants and plant products from Mexico when the United States demonstrates the need to impose these measures in order to protect plant health within the United States. The pest list that accompanied the initial notice provided evidence of such a need.

With that being said, all shipments of soursop are subject to inspection at ports of entry, and an inspector will monitor all irradiation treatments of soursop from Mexico and may inspect articles prior to irradiation for quarantine pests.

Four comments cited concerns that market access to the United States of fresh produce from Mexico provides a vehicle for illegally transporting drugs, money, and/or people.

The commenters provided no evidence to substantiate these concerns. However, as noted above, all shipments of soursop are subject to inspection at ports of entry.

Several commenters expressed concern that APHIS did not describe the Mexican chemical control measures in its assessment of market access for soursop. One of the commenters asked whether APHIS has determined that the chemicals Mexican producers may use on soursop are harmonized with those that U.S. producers may use, while another asked who will monitor to ensure that only chemicals approved for use in the United States are applied. One of the commenters asked how APHIS will ensure that chemicals that are harmful to human health are not used.

The United States does not have direct control over pesticides that are used on food commodities such as soursop in other countries, and it will fall to the NPPO of Mexico to monitor which chemicals are used at registered places of production.

However, there are regulations in the United States concerning the importation of food to ensure that commodities do not enter the United States containing illegal pesticide residues. Through section 408 of the Federal Food, Drug, and Cosmetic Act, the Environmental Protection Agency (EPA) has the authority to establish, change, or cancel tolerances for food commodities. These EPA-set tolerances are the maximum levels of pesticide residues that have been determined, through comprehensive safety evaluations, to be safe for human consumption. Tolerances apply to both food commodities that are grown in the United States and food commodities that are grown in other countries and imported into the United States. The EPA tolerance levels are enforced once the commodity enters the United States. Chemicals such as DDT that are banned in the United States do not have tolerances on food commodities. Federal Government food inspectors are responsible for monitoring food commodities that enter the United States to confirm that tolerance levels are not exceeded and that residues of pesticide chemicals that are banned in the United States are not present on the commodities.

Several commenters stated that, since the notice was issued, Mexico had experienced a significant and widespread outbreak of Mediterranean fruit fly (Ceratitis capitata, Medfly) in the State of Colima, indicating a breakdown of trapping and control measures at production sites. One other commenter stated that fruit fly outbreaks in the area of Mexico bordering Texas had become more frequent.

Mexico worked with the United Nations Food and Agriculture Organization (FAO) and the International Atomic Energy Agency's (IAEA's) technical cooperation program and more than 200 technicians to employ sterile insect techniques (SIT) after a Medfly detection in Colima. Mexican authorities, who imposed a quarantine on the region during eradication efforts, declared the Medfly completely eradicated. APHIS determined that no fruit fly host material was exported to the United States from the incident.

Sterile male medflies in the SIT initiative were produced at a facility in Mexico, with a design that benefited from IAEA expertise, inaugurated in 2021. It is the second largest in the world with a production capacity of 1,000 million sterile medflies every week. The new facility, located in the state of Chiapas, focuses on mass production of sterile insects. Together with the El Pino facility in Guatemala, it helps maintain the containment barrier that prevents the introduction and spread of the pest to northern Guatemala, Mexico, and the United States.

Several commenters stated that irradiation, the primary mitigation, is not failsafe in the event of high infestation levels. Several other commenters echoed this last point and stated that other measures should be included in the systems approach to ensure that irradiation is effective at neutralizing quarantine pests. One commenter, the NPPO of Mexico, stated that in order to be eligible to export, soursop producers in Mexico must be registered with the NPPO, and that such registration is associated with integrated pest management at the place of production, including monitoring for and control of fruit flies.

We agree with the commenters who stated that fruit fly trapping at places of production is warranted in order to reduce pest pressures and help ensure that the soursop fruit to be irradiated is not infested with fruit flies. We have added a requirement for pest management for fruit flies and other pests to the final RMD. We will also require places of production to be registered with the NPPO of Mexico so that the NPPO may monitor the placement and servicing of traps; as noted by the NPPO of Mexico, this is currently a requirement for all soursop producers in Mexico who wish to be eligible to export soursop.

Several commenters stated that they believe that the introduction of quarantine pests from the importation of soursop from Mexico is likely because the climate in Florida and, especially, south Florida is especially suitable to the establishment and spread of quarantine pests.

We have determined, for the reasons described in this final notice as well as the RMD that accompanies this final notice, that the measures specified in the RMD will effectively mitigate the risk associated with the importation of soursop from Mexico.

One commenter asked that APHIS employ additional databases in Spanish and English to assess pest introduction risk.

APHIS notes that sources in both Spanish and English were consulted in preparing the quarantine pest list for the soursop market access request.

To facilitate comments from Spanish-speaking members of the public without internet access, two commenters requested that APHIS provide: Spanish translations of APHIS' website, pest risk assessments, and economic documents, as well as a means of submitting an official comment that did not rely on internet access, email access, or access to an online portal. The commenters also asked that comments received in Spanish be translated and taken into consideration.

APHIS affirms the U.S. Department of Agriculture's (USDA's) overarching commitment to environmental justice as regards its actions and activities, and, to the extent practicable, we do make our outreach materials available in languages other than English when we are aware of stakeholder groups who are not native English speakers and who are particularly impacted by or interested in our actions. We also note that there are a variety of free internet tools available that will translate documents and web pages from one language to another, often without charge. However, given the more than 7,000 languages currently in existence, it is not logistically feasible nor equitable to expect the Agency to translate all of its documents into any one language.

Regarding submission of comments, consistent with the requirements of the eGovernment Act of 2022, APHIS allows comments on all of its Federal Register documents to be submitted through postal mail and considers such comments to be official comments, regardless of the language of the submission. APHIS already endeavors and will continue to try to translate comments received in languages other than English in its consideration of comments. However, in order to ensure the best or most accurate characterization and response to comments, APHIS suggests that all submissions be made in English.

Pest List Comments

As we mentioned previously in this document, the initial notice made available a pest list that identified pests of quarantine significance that could follow the pathway of the importation of fresh soursop fruit into the continental United States from Mexico. These were Optatus palmaris Pascoe, the Annonaceae fruits weevil, Neosilba glaberrima, a lance fly, Anastrepha fraterculus (Wiedemann), the South American fruit fly, Anastrepha striata Schiner, the guava fruit fly, Ceratitis capitata, Mediterranean fruit fly or Medfly, Nipaecoccus viridis, the spherical mealybug, Bephratelloides pomorum (Fabricius), the soursop wasp, Oenomaus ortygnus, the aquamarine hairstreak butterfly, Cerconota anonella, the Annona fruit borer, and Talponia batesi Heinrich, a moth. No introduction of a new quarantine pest has occurred in Mexico that would infest soursop fruit since APHIS' analysis was completed.

One commenter faulted the pest list for not including Frankliniella difficilis among pests it evaluated for the importation, noting that the insect is impervious to irradiation and has been reported as a persistent pest of mamey sapote and avocado in Morelos, Mexico.

While Frankliniella difficilis is present in Mexico and while it is a quarantine pest for the continental United States, APHIS has found no evidence to suggest that it is a pest of soursop. For these reasons, APHIS did not include it in the pest list.

Another commenter stated that the pest list did not include five pests of soursop that pose risks to California's agriculture and environment, Aleurodicus dispersus, Paracoccus marginatus, Pseudococcus jackbeardsleyi, Russellaspis pustulans, and Bephratelloides cubensis. APHIS regards all five of these pests as nonactionable, meaning that they are none of the following: (1) Quarantine pests that are not present in the United States; (2) regulated non-quarantine pests that are not present in the United States; (3) pests that are in the United States in limited distribution and under official control or are candidates for official control; or (4) pests that require evaluation for regulatory action. Because they are non-actionable, they were not included in the pest list.

A commenter also stated that numerous fruit flies attack soursop, specifically citing Neosilba glaberrima, N. pendula, Anastrepha fraterculus, A. ludens, A. obliqua, A. striata, and Ceratitis capitata.

As noted above, Neosilba glaberrima, Anastrepha fraterculus, A. striata, and Ceratitis capitata were included in the pest list as quarantine pests that could follow the pathway of the importation of soursop from Mexico and thus require mitigation. This mitigation is first and foremost the irradiation treatment required under the systems approach. Neosilba pendula, Anastrepha ludens, and A. obliqua are listed in Section 1.1 of the pest list as quarantine pests. However, the section indicates that there is inadequate evidence for a host association of these pests with soursop. Hence, we did not develop mitigations specific to these pests. Nonetheless, it should be noted that all fruit fly species are sterilized at 150 Gy, and the dose required for this importation will be 400 Gy.

The same commenter expressed concern that Optatus palmaris, the Annonaceae fruits weevil, is a significant pest of soursop.

We included Optatus palmaris in the pest list as a quarantine pest that could follow the pathway of the importation of soursop from Mexico and thus requires mitigation.

The same commenter specifically requested inclusion of Lance fly (Neosilba batesi); also, the fungal diseases black canker (Phomopsis spp.), purple blotch (Phytophthora palmivora), brown rot (Rhizopus stolonifera), burning string (Corticium koleroga), and zoned spot (Sclerotium coffeicolum), citing references specific to soursop in Mexico in support of this request.

Neosilba batesi (Curran) is present in Florida and not under official control, and it is therefore non-actionable and not a quarantine pest for the continental United States. Hence, it was not included in the pest list.

With regard to the fungi referenced by the commenter, these fungi have been reported on other Annona species such as A. cherimola, but APHIS found no evidence of them on A. muricata. These fungi are also ubiquitous in the United States, and they are thus both non-actionable and not quarantine pests.

Another commenter asked APHIS to define the basis for its assertion that Parlatoria cinerea Hadden, armored scale, is not an actionable pest as regards soursop importation. The commenter asserted that the pest does occur on fruit and that no economic analysis has been made of its potential cost to U.S. producers if it is introduced here.

APHIS acknowledges that Parlatoria cinerea Hadden is present in Mexico, and it has been reported as a pest of Annona muricata. Although it is a quarantine pest for the continental United States, APHIS has determined that fruit for consumption is an unlikely pathway for the introduction of diaspidid scales, such as Parlatoria cinerea, due to their very limited ability to disperse to new host plants. Hence, it is not an actionable pest at U.S. ports of entry.

A commenter expressed concern that APHIS had not assessed the economic effect of non-actionable insects, such as several scales or mealy bugs that are in the United States but not present in Florida or south Florida. The commenter stated that detection probabilities prior to shipment have not been determined, also that inspection of all fruit loads upon arrival in a locale are impossible. The commenter stated that, in light of this, there is a possibility of introduction of non-actionable pests, and that non-actionable pests have impacts on farmers.

As noted in a previous response, a pest must be considered actionable if it is a pest of quarantine significance that is not present in the United States or if it is a pest of quarantine significance that is in the United States in limited distribution and under official control or is a candidate for official control. Therefore, non-actionable pests do not meet either our or the International Plant Protection Convention's definition of a quarantine pest, and we do not consider specific mitigation measures necessary for them.

However, APHIS has developed a program, the Federally Recognized State Managed Phytosanitary Program (FRSMP), to afford protections to States when commodities are determined at a port of entry to harbor a plant pest that is not a quarantine pest but is of concern to a particular State. Information regarding the petition process for FRSMP is found here: https://www.aphis.usda.gov/plant_health/plant_pest_info/frsmp/downloads/petition_guidelines.pdf.

Comments on the RMD

In the RMD, we proposed that soursop from Mexico would have to be commercially produced and part of a commercial consignment. We further indicated that, in order to be considered commercially produced, culling of fruit prior to shipment would need to occur.

One commenter questioned culling process effectiveness for Opatus palmaris, four fruit fly species, and three lepidoptera species. The commenter stated that, at various stages of the pests' development, these pests are internal feeders and may not cause visible damage that would result in culling.

The purpose of the irradiation treatment described in the RMD is to mitigate the risk of internally feeding pests, other than lepidoptera, that are not detected during a visual inspection. Moreover, APHIS disagrees with the commenter that these pests may not cause visible damage; damage from these internal feeders is visible and often conspicuous and would lead to culling of the fruit by the time it reaches a packinghouse.

We proposed that the soursop would have to be irradiated with a minimum absorbed dose of 400 Gy and follow the requirements of 7 CFR part 305 with treatments approved as effective at neutralizing quarantine pests.

One commenter stated that soursop should be allowed to be irradiated in the continental United States, citing a bilateral agreement with Mexico. The commenter interpreted the RMD to limit irradiation treatment to prior to the fruit's arrival at a port of entry into the United States.

The RMD stated that fruit must be irradiated with a minimum absorbed dose of 400 Gy and follow the requirements of part 305. That part contains APHIS' regulations governing phytosanitary treatments. Section 305.9 contains APHIS' irradiation treatment regulations. The commenter appears to be referring to one of the requirements for irradiation of imported commodities within the United States, which is for the NPPO of a country from which articles are to be imported into the United States to sign a framework equivalency workplan with APHIS.

The commenter is correct that the NPPO of Mexico has signed such a workplan and met other preconditions for domestic irradiation of part 305. The RMD therefore allows irradiation of soursop at approved facilities within the United States.

Several commenters challenged the efficacy of APHIS' irradiation dosage, stating that it may not kill the moth lepidoptera pupae and larvae inside the soursop fruit. They stated that this is acknowledged in the USDA treatment manual. The commenters also noted that several lepidopteran species, including Cerconota anonella, infest soursop in Mexico.

While it is true that irradiation at a minimum absorbed dose of 400 Gy may not neutralize lepidoptera, irradiation was not intended within the RMD as a specific mitigation for lepidoptera. As noted in the RMD, the lepidoptera of quarantine significance listed in the pest list, while internal feeders, cause visible damage to the fruit that renders it unmarketable and would result in it being culled. Thus, it is expected that the visual inspection required in culling would detect the pupal and larval stages of the three lepidoptera pests in soursop.

One commenter noted a discrepancy between this provision of the RMD and the economic effects abstract, or economic effects assessment (EEA), that accompanied the initial notice. In the EEA, we indicated that “most shipments” will be irradiated, which the commenter pointed out could be as little as 51 percent of total shipments. The commenter also asserted that the EEA did not provide any context about which shipments would be subject to irradiation and which would not, or who would adjudicate whether irradiation should be administered to the shipment.

The initial EEA did not clearly state, but the initial RMD, our final RMD, and this notice all affirm, that all shipments will have to be irradiated.

One commenter questioned Mexico's ability to administer irradiation treatment and stated that this should be verified through test protocols before we allow it to occur for soursop intended for export to the United States. In contrast, the NPPO of Mexico pointed out that they have irradiation facilities that have been approved by APHIS and have used these facilities to irradiate commodities in accordance with part 305 for more than a decade. Two other commenters stated that approval of the facilities occurred in November 2008, and that pests have not been identified on irradiated commodities following treatment. These latter commenters cited this as evidence that the irradiation program in Mexico is well established.

For the reasons cited by the NPPO of Mexico and the latter commenters, we do not consider it necessary to conduct test protocols of irradiation treatment in Mexico. However, we must here underscore that § 305.9 (a) through (o) lays out in detail the provisions required for irradiation treatment of any imported regulated articles (i.e., fruits, vegetables, cut flowers, and foliage), as well as such regulated articles moved interstate from Hawaii and U.S. territories. Protocols and conditions for irradiation facilities and their certification; compliance, monitoring, and interagency agreements; treatment framework equivalency workplans; related packaging, container, dosage, records, inspection; and other requirements are all specified therein.

We proposed that soursop from Mexico imported into the United States would be subject to inspection at ports of arrival into the United States.

Several commenters stated that port-of-entry inspections were insufficient in frequency and sampling size to detect quarantine pests, particularly fruit fly larvae, that may be present in soursop from Mexico.

The RMD prescribes a systems approach for the mitigation of plant pests of soursop imported from Mexico into the United States. As noted previously, port-of-entry inspections are just one type of inspection of soursop within the systems approach and will be required for all shipments entering into the United States. Additionally, the NPPO of Mexico must inspect all shipments prior to issuing a phytosanitary certificate, and an inspector may inspect shipments prior to or after irradiation treatment. To that end, we reiterate that all shipments will have to be treated with irradiation treatment for fruit flies.

Several commenters indicated that port-of-entry inspection had failed to detect oriental fruit fly (OFF)-infestations in imported products, leading to a significant outbreak in Florida.

APHIS has no evidence that the OFF outbreak was due to insufficient port-of-entry inspections of imported fruit.

One commenter requested that specific eradication and research programs, as well as commitments of resources, be in place to mitigate potential pest introduction impact. Another commenter stated that treatment of soursop for pests upon entry to the United States, as well as within Mexico, should be allowed.

The comments presume a likelihood that APHIS' prescribed systems approach will fail to mitigate pest introduction to the United States. APHIS would not entertain the market access for soursop if it lacked confidence that a systems approach would prevent quarantine pests from following the pathway of importation into the United States. APHIS does not find that the comments provided evidence that contravenes the efficacy of the systems approach or supports denial of the market access to soursop.

Finally, a commenter asked APHIS to have laboratories test soursop fruit before it is taken for supply to the United States. Specifically, the commenter asked that the fruit be required to ripen and overripen in laboratories in Mexico before being allowed to be shipped to the United States, citing a protocol for durian from Mexico that the commenter asserted to be operational and effective as a precedent.

We are uncertain what protocol the commenter is referring to. The import requirements for durian from Mexico are that it must be accompanied by a permit issued by APHIS and is subject to inspection at ports of entry into the United States. Nonetheless, we do not consider such testing necessary for soursop from Mexico to be warranted. For the reasons set forth in the initial RMD, the revised RMD, and this notice, we consider the mitigations of the revised RMD to be sufficient to address the plant pest risk associated with the importation of soursop from Mexico.

Economic Comments

Three commenters noted that the EEA that accompanied the initial notice had stated that there was no domestic production of soursop in the United States. The commenters stated that there were in fact domestic producers, and that APHIS has not conducted analysis of imported soursop impact on domestic grower wellbeing. The commenters provided information from local surveys and grower contacts, as well as the status of soursop production in Florida.

APHIS has updated the EEA for the soursop market access based on information the public provided during the comment period.

Public comments APHIS received in 2019 suggested a presence of 11 acres of commercial soursop production area in Florida's Miami-Dade County, the only region in the continental United States that has a tropical climate suitable for soursop production. Among other findings of the revised EEA, Florida's soursop acreage is increasing within this limited production area in Miami-Dade County, in part because soursops are considered as a potential alternative cash crop to avocados, the production of which has been declining since the outbreak of Laurel Wilt disease in 2011. Assuming an average yield of 3.2 to 3.6 tons per acre, APHIS estimates that approximately 35 to 40 tons of soursop were produced in Florida in 2018.

The revised EEA, most recently updated in 2024, also examines the growth of Mexico's soursop production, the relatively stable fresh soursop imports from Grenada to the United States (presently only Grenada is authorized to export fresh soursops to the United States), the total acreage available for all domestic tropical fruit tree production in southern Florida in 2018, and available economic census data for U.S. tropical fruit production and commerce to indicate potential production areas of soursops in Florida.

Several commenters stated that imports of soursop from Mexico will adversely impact the domestic market for soursop in Florida. Five commenters stated that domestic acreage is slowly growing, and the market is niche and sensitive to quantity and price fluctuations. These latter commenters stated that Mexico's projected shipment quantity will disproportionally cut soursop prices and pressure the U.S. domestic producers to compete with one another.

As noted above, APHIS has revised the EEA to take domestic production—as well as current import volume from Grenada, the only country currently authorized to ship fresh soursop to the United States—into consideration. However, the estimated domestic production is only 30 to 35 tons annually in southern Florida. In this regard, we note that this notice provides Mexico with market access to the entire continental United States, including major metropolitan areas where fresh soursop is currently not available. While it is possible soursop from Mexico will be imported for distribution to Florida, it is also possible that it will be imported for distribution to other areas of the continental United States. Additionally, given the currently limited scope of the market, allowing soursop importation may increase consumer awareness of soursop, spurring an increase in demand.

One of the commenters characterized APHIS' assessment as indifferent toward domestic soursop producers in that it views the market access as only harming small entities and merchants. Commenters also expressed concern that the import will have a negative impact on the domestic growers, whom the commenters stated are small, family-owned businesses, for a very modest and localized domestic demand for soursop, which, the commenters stated, domestic growers are presently meeting. They stated that even with time, education, and diversification, demand for soursop in the United States could not increase to levels justifying this imported volume. They stated that the domestic supply is seasonally met, and APHIS had not conducted an analysis of the impacts of additional import volume on seasonal or counter-seasonal demand. Similarly, one commenter characterized domestic production as in an “incubator stage,” in which demand increases very slowly and influxes of product could significantly adversely impact the domestic market.

We cannot with certainty determine that consumers will favorably respond to fresh soursops with which they are not presently familiar. We have thus not been able to substantiate the commenters' concerns that domestic demand throughout the continental United States is localized, seasonal, or modest, particularly given that it is not currently available in most major metropolitan areas in the United States.

Two commenters stated that domestic grower costs are much greater than in Mexico for the same crops and that cheaply produced soursop imports in increased volume will be harmful to domestic growers. They believed that Mexico's big scale production at lower production costs will overwhelm domestic production.

A commodity's production costs abroad, broadly construed, do not necessarily equate to costs of production for that commodity when it is required to meet stringent standards for importation to the United States. In this regard, we note that the NPPO of Mexico indicated that their export program for soursop imposes additional requirements on producers that are not required of soursop producers that sell domestically within Mexico. We also note that the other standards of the RMD, particularly irradiation, will impose other logistics costs to retain freshness for soursops' short shelf-life, costs that domestic producers would not encounter.

Ten commenters stated that in assessing economic impact of the market access request from Mexico, APHIS cannot ignore possible pest eradication costs, nor effects past introductions of pests and diseases have had on U.S. growers. They cited unintentional pest and disease introductions at great, documented quarantine expense. Among impacts they noted, domestic commercial citrus packinghouses have been cut from 88 to 14. Five commenters in a related concern maintained that this importation is much more broadly economically significant because the listed quarantine-able pests pose potential risk to Florida's $120 billion agricultural industry. These commenters feared a spill-over effect on large numbers of avocado growers and their $100 million related industry, as they are exposed to the same pest and disease risks as soursop growers in this importation.

We have determined, for the reasons described in this final notice, as well as the RMD that accompanies this final notice, that the measures specified in the RMD will effectively mitigate the risks associated with the importation of soursop from Mexico. Thus, we do not believe that the economic losses due to pest or disease introduction that the commenters feared will materialize, and therefore do not need to be analyzed.

One commenter stated that each time the Mediterranean fruit fly has been detected in Florida, fewer control methods have been available, as the pest has been increasingly resistant to aerial pesticide spraying. The commenter cited one recent eradication cost estimate ranging widely from $24 to $56 million.

APHIS acknowledges the severity of past fruit fly outbreaks in its revised EEA, but APHIS reiterates that the provisions of the revised RMD will address the plant pest risk associated with the importation of soursop from Mexico, for the reasons set forth in the initial RMD, the revised RMD, and this document. If we considered those mitigations insufficient, we would not approve such importation.

Another commenter asserted that meeting soursop demand with domestic production is safer and returns dollars to the local economy, rather than draining the local economy.

As indicated above, APHIS has no information indicating that domestic demand for fresh soursop throughout the continental United States is met by domestic production and distribution, which is currently limited and localized. Notwithstanding this, under the Plant Protection Act (7 U.S.C. 7701 et seq.), APHIS cannot base its determinations on economic cost competitiveness considerations or economic impacts.

Another commenter asked APHIS to conduct an income impact study of domestic grower prices in the event of soursop importation, especially if the importation is at volumes stated in the proposed market access.

APHIS does not have, nor did commenters provide, data that would allow us to complete such an analysis. However, such an analysis is not warranted. The commenter's stated assumption was that imports of soursop would directly compete with domestic production in areas of current domestic distribution. As noted above, we have no data suggesting this will occur, particularly given the scope of the market access and the absence of fresh soursop in most major metropolitan areas.

As stated in the revised EEA, we evaluated whether it would have an impact high enough to trigger a Major designation under the Congressional Review Act and concluded that it would not. In this particular case, the entire domestic industry has a market value of far less than $100 million. Thus, even a complete collapse in the domestic soursop price would not be sufficient to trigger such a designation. APHIS finds no evidence such a collapse will occur, and it is possible that soursop imports could expand access to other metropolitan areas (e.g., cities in Arizona, California, and Texas), leading to more market access rather than additional competition for domestic growers.

In addition to considering the total value of the market effects, the revised EEA also noted that many of the soursop producers are small entities. Precise income effects on these growers would be difficult for APHIS to determine exactly due to the absence of detailed data.

Mexico is a major producer of soursops. The production of soursops increased rapidly in Mexico up to 2021, when Mexican producers grew 39,905 tons of soursops on 10,012 planted acres. That reflected a 380 percent increase in production and a 260 percent increase in planted acreage from 2000, when 8,321 tons of soursops were produced on 2,792 planted acres. In 2023, this moderated as Mexican producers grew 30,121 tons of soursops on 8,080 planted acres. That still reflected a 262 percent increase in production and a 190 percent increase in planted acres from 2000. Mexico's NPPO estimates that 200 metric tons of fresh soursops would initially be exported to the continental United States each year if exports were authorized. From 2017 to 2023, the United States imported an average of 256 tons of fresh soursops per year from Grenada, with an average value of $1.2 million in Customs value ³ and $1.6 million in Cost, Insurance, Freight import (CIF) value,⁴ respectively.

³ Customs value is generally defined as the price actually paid for merchandise when sold for exportation to the United States and excludes U.S. import duties, freight, insurance and other charges. (International Trade Definitions (census.gov).

⁴ CIF value represents the landed value of the product at the first port of arrival in the United States. It is computed by adding import charges to the Customs value and excludes U.S. import duties. (International Trade Definitions (census.gov).

Due to fresh soursop's short shelf-life, all soursops are air-shipped to the United States, mainly to Miami. However, as already noted, as more soursops are imported into the United States, the market may expand outside the Maimi area to other metropolitan regions. In the event of such an expansion, domestic soursop producers might even be at a slight competitive harvest and timely shipping advantage for the delicate fruit within the United States, over longer imported distances.

Therefore, in accordance with § 319.56-4(c)(3)(iii), we are announcing our decision to authorize the importation into the continental United States of fresh soursop fruit from Mexico subject to the phytosanitary measures identified in the RMD that accompanies this final notice.

These conditions will be listed in the USDA, APHIS Agricultural Commodity Import Requirements (ACIR) database (https://acir.aphis.usda.gov/s/).⁵ In addition to these specific measures, each shipment must be subject to the general requirements listed in § 319.56-3 that are applicable to the importation of all fruits and vegetables.

⁵ On September 30, 2022, the APHIS Fruits and Vegetables Import Requirements (FAVIR) database was replaced by the ACIR database.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E- Government Act to promote the use of the internet and other information technologies, to provide increased opportunities for citizen access to Government information and services, and for other purposes. For information pertinent to E-Government Act compliance related to this notice, please contact Mr. Joseph Moxey, APHIS' Paperwork Reduction Act Coordinator, at (301) 851-2533.

Authority: 7 U.S.C. 1633, 7701-7772, and 7781-7786; 21 U.S.C. 136 and 136a; 7 CFR 2.22, 2.80, and 371.3.

Done in Washington, DC, this 23rd day of October 2024.
Donna Lalli,
Acting Administrator, Animal and Plant Health Inspection Service.

[FR Doc. 2024-25085 Filed 10-28-24; 8:45 am]

BILLING CODE 3410-34-P